POSTAL SERVICE

Board of Governors; Sunshine Act Meeting

DATES AND TIMES: Wednesday, November 13, 2019, at 10:30 a.m.; and Thursday, November 14, 2019, at 9:00 a.m.

PLACE: Washington, DC, at U.S. Postal Service Headquarters, 475 L'Enfant Plaza SW, in the Benjamin Franklin Room.

STATUS: Wednesday, November 13, 2019, at 10:30 a.m.—Closed. Thursday, November 14, 2019, at 9:00 a.m.—Open.

MATTERS TO BE CONSIDERED:

Wednesday, November 13, 2019, at 10:30 a.m. (Closed)

1. Strategic Issues.

2. Financial Matters.

3. Compensation and Personnel Matters.

4. Executive Session—Discussion of prior agenda items and Board governance.

Thursday, November 14, 2019, at 9:00 a.m. (Open)

1. Remarks of the Chairman of the Board of Governors.

2. Remarks of the Postmaster General and CEO.

3. Approval of Minutes of Previous Meetings.

4. Committee Reports.

5. Five-Year Strategic Plan.

6. FY2019 10K and Financial Statements, Annual Report and Comprehensive Statement.

7. FY2020 IFP and Financing Resolution.

8. FY2021 Appropriations Request.

9. Quarterly Service Performance Request.

10. Approval of Tentative Agenda for February Meetings.

11. Board Leadership.

A public comment period will begin immediately following the adjournment of the open session on November 14, 2019. During the public comment period, which shall not exceed 30 minutes, members of the public may comment on any item or subject listed on the agenda for the open session above. Registration of speakers at the public comment period is required. Speakers may register online at https://www.surveymonkey.com/r/BOG-11-14-19. Onsite registration will be available until thirty minutes before the meeting starts. No more than three minutes shall be allotted to each speaker. The time allotted to each speaker will be determined after registration closes. Participation in the public comment period is governed by 39 CFR 232.1(n).

CONTACT PERSON FOR MORE INFORMATION: Michael J. Elston, Acting Secretary of the Board, U.S. Postal Service, 475 L'Enfant Plaza SW, Washington, DC 20260-1000. Telephone: (202) 268-4800.

Michael J. Elston,
Acting Secretary.

[FR Doc. 2019-23794 Filed 10-28-19; 4:15 pm]

BILLING CODE 7710-12-P